DEPARTMENT OF DEFENSE

Department of the Navy

[Docket ID USN-2013-0018]

Privacy Act of 1974; System of Records

AGENCY: Department of the Navy, DoD.

ACTION: Notice to alter a System of Records.

SUMMARY: The Department of the Navy proposes to alter a system of records in its inventory of record systems subject to the Privacy Act of 1974 (5 U.S.C. 552a), as amended.

DATES: This proposed action will be effective on July 16, 2013 unless comments are received which result in a contrary determination. Comments will be accepted on or before July 15, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or at the Defense Privacy and Civil Liberties Web site http://dpclo.defense.gov/privacy/SORNs/component/navy/index.html.

The proposed system report, as required by 5 U.S.C. 552a(r) of the Privacy Act of 1974, as amended, was submitted on May 17, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: June 10, 2013.
Aaron Siegel,
Alternate OSD Federal Register Liaison Officer, Department of Defense.

N06110-1

System name:

Physical Readiness Information Management System (PRIMS) (August 13, 2007, 72 FR 45235).

Changes:

* * * * *

System location:

Delete entry and replace with “Policy Official Naval Support Activity Mid-south, 5722 Integrity Drive, Bldg 456, Millington, TN 38054-5045 for records of all active duty and reserve members.

Application and database are housed with Bureau of Naval Personnel Online (https://www.bol.navy.mil). The mailing address is Commanding Officer, Navy Personnel Command (PERS-5), 5720 Integrity Drive, Millington, TN 38055-6000.”

* * * * *

Categories of records in the system:

Delete entry and replace with “Physical Readiness Information Management System (PRIMS) consists of command information, authorization information, member personnel data to include name, last four of Social Security Number (SSN), Department of Defense Identification Number (DoD ID Number), Unit Identification Code (UIC), gender, service, rank, date of birth, Navy Enlisted Code/Designator, date of last assignment, Preventive Health Assessment date, Physical Activity Risk Factor Questionnaire responses, medical waivers, body composition assessment (weight, height, neck, abdomen, waist, hips, percent body fat), Physical Readiness Test data, Fitness Enhancement Program data, Progress/Readiness Waivers, and Nutrition data.”

Authority for maintenance of the system:

Delete entry and replace with “10 U.S.C. 5013, Secretary of the Navy; OPNAVINST 6110.1 Series, Physical Readiness Program; DoD 6025.18-R, DoD Health Information Privacy Regulation; and E.O. 9397 (SSN), as amended.”

Purpose(s):

Delete entry and replace with “To provide a standardized Navy database to monitor and track the progress of members' Physical Fitness Assessment (PFA) data and to identify, screen, train, educate, counsel, monitor and rehabilitate members who do not meet the PFA standards. This system is used by officials and employees responsible for performing fitness assessment and entering results into the system for the Department of the Navy, in the performance of their official duties relating to the conduct of physical fitness studies.”

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses that appear at the beginning of the Navy's compilation of system of records notices may apply to this system.

Note: This system of records contains Individually Identifiable Health Information. The DoD Health Information Privacy Regulation (DoD 6025.18-R) issued pursuant to the Health Insurance Portability and Accountability Act of 1996, applies to most such health information. DoD 6025-18-R may place additional procedural requirements on the uses and disclosures of such information beyond those found in the Privacy Act of 1974 or mentioned in this system of records notice.”

* * * * *

Storage:

Delete entry and replace with “Paper records and/or electronic storage media.”

Retrievability:

Delete entry and replace with “Records are retrieved by name, last four of SSN or DoD ID Number.”

Safeguards:

Delete entry and replace with “Password controlled system, files and elements are accessible only to authorized persons having an official need-to-know. Physical access to terminals, terminal rooms, buildings and activities grounds are controlled by locked terminals and rooms, guards, personnel screening and visitor registers.”

Retention and disposal:

Delete entry and replace with “Records will be maintained in PRIMS for five years and then archived and maintained by the primary record holder for an additional five years and then destroyed. Individual commands maintain working copies of the records and destroy after five years.”

System manager(s) and address:

Delete entry and replace with “Director, Personal Readiness and Community Support (OPNAV N135F), 5720 Integrity Drive, Millington, TN 38055-6000.”

Notification procedure:

Delete entry and replace with “All active duty and active Reserve Navy members with internet capabilities who are seeking to determine whether this system of records contains information about themselves can access this record system online by first going to https://www.bol.navy.mil. Member must use LOGIN ID and password or Common Access Card (CAC) to gain access to site and then select PRIMS from the menu.

Former service members who are seeking to determine whether this system of records contains information about themselves should address written inquiries to the Chief of Naval Operations (Code N135), 5720 Integrity Drive, Millington, TN 38055-6000 or to the official command where they were last assigned.

Official mailing addresses are published in the Standard Navy Distribution List.

Requests must be signed and individuals should include their full name, last four of SSN, name or UIC of last command assigned, and dates of last assignment.

The system manager may require an original signature or a notarized signature as a means of proving the identity of the individual requesting access to the records.”

Records access procedures:

Delete entry and replace with “All active duty and active Reserve Navy members with Internet capabilities seeking access to records about themselves in this system of records may do so by first going to https://www.bol.navy.mill. Member must use LOGIN ID and Password or CAC to gain access to site and then select PRIMS from the menu.

Former service members seeking access to records about themselves in this system of records may receive a copy of the records by addressing written inquiries to the Chief of Naval Operations (Code N135), 5720 Integrity Drive, Millington, TN 38055-6000 or to the official command where they were last assigned.

Requests must be signed and individuals should include their full name, last four of SSN, name or UIC of last command assigned and dates of last assignment.

The system manager may require an original signature or a notarized signature as a means of proving the identity of the individual requesting access to the records.”

* * * * *

[FR Doc. 2013-14054 Filed 6-12-13; 8:45 am]

BILLING CODE 5001-06-P